DEPARTMENT OF COMMERCE

United States Patent and Trademark Office

National Telecommunications and Information Administration

[Docket No. 130927852-3852-01]

Request for Comments on Department of Commerce Green Paper, Copyright Policy, Creativity, and Innovation in the Digital Economy

AGENCY: United States Patent and Trademark Office, U.S. Department of Commerce; National Telecommunications and Information Administration, U.S. Department of Commerce.

ACTION: Notice of Change in Public Meeting Date and Change in Public Comment Periods.

SUMMARY: On October 3, 2013, the Department of Commerce's Internet Policy Task Force (Task Force) published a notice of public meeting and a request for public comments on five issues critical to economic growth, job creation, and cultural development that were identified in the Department's Green Paper on Copyright Policy, Creativity, and Innovation in the Digital Economy (Green Paper). The purpose of this notice is to announce a change in the date of the public meeting and additional opportunities for the submission of public comments. The public meeting (previously scheduled for October 30, 2013) will now be held on December 12, 2013. The deadline for the submission of pre-meeting comments is November 13, 2013. Post-meeting comments are due on or before January 10, 2014.

DATES: The deadline for filing pre-meeting comments is November 13, 2013. Any comments received by November 13, 2013, will be considered in the discussions at the December 12, 2013 public meeting. Participation in the public meeting does not, however, require the submission of comments.

The public meeting (previously scheduled for October 30, 2013) will now be held on December 12, 2013, from 8:30 a.m. to 5:30 p.m., Eastern Standard Time, at the United States Patent and Trademark Office (USPTO) in Alexandria, Virginia. Registration will begin at 8:00 a.m.

The deadline for filing post-meeting comments is January 10, 2014. The filing of pre-meeting comments is not a prerequisite for filing post-meeting comments.

ADDRESSES: The public meeting will be held at the United States Patent and Trademark Office in the Madison Auditorium on the concourse level of the Madison Building, which is located at 600 Dulany Street, Alexandria, VA 22314. All major entrances to the building are accessible to people with disabilities.

Interested parties are encouraged to file comments electronically by email to: CopyrightComments2013@uspto.gov. Comments submitted by email should be machine-searchable and should not be copy-protected. Written comments also may be submitted by mail to Office of Policy and External Affairs, United States Patent and Trademark Office, Mail Stop External Affairs, P.O. Box 1450, Alexandria, VA 22313-1450. Responders should include the name of the person or organization filing the comment, as well as a page number, on each page of their submissions. Paper submissions should also include a CD or DVD containing the submission in Word, WordPerfect, or .pdf format. CDs or DVDs should be labeled with the name and organizational affiliation of the filer, and the name of the word processing program used to create the document. All comments received are a part of the public record and will be made available to the public at http://www.ntia.doc.gov/internetpolicytaskforce without change. All personally identifiable information (for example, name, address) voluntarily submitted by the commenter may be publicly accessible. Do not submit confidential business information or otherwise sensitive or protected information. The Task Force will accept anonymous comments (enter “N/A” in the required fields if you wish to remain anonymous).

FOR FURTHER INFORMATION CONTACT: For further information regarding the meeting, contact Hollis Robinson or Ben Golant, Office of Policy and External Affairs, United States Patent and Trademark Office, Madison Building, 600 Dulany Street, Alexandria, VA 22314; telephone (571) 272-9300; email: hollis.robinson@uspto.gov or benjamin.golant@uspto.gov.

For further information regarding the public comments, contact Garrett Levin or Ben Golant, Office of Policy and External Affairs, United States Patent and Trademark Office, Madison Building, 600 Dulany Street, Alexandria, VA 22314; telephone (571) 272-9300; email garrett.levin@uspto.gov or benjamin.golant@uspto.gov.

Please direct all media inquiries to the Office of the Chief Communications Officer, USPTO, at (571) 272-8400.

Public Meeting

The agenda for the public meeting will be available at least one week prior to the meeting and the meeting will be webcast. The agenda and webcast information will be available on the Internet Policy Task Force Web site, http://www.ntia.doc.gov/internetpolicytaskforce and the USPTO's Web site, http://www.uspto.gov. The meeting will be open to members of the public to attend, space permitting, on a first-come, first-served basis. Pre-registration for the meeting is available at: http://events.SignUp4.com/GreenPaper. The meeting will be physically accessible to people with disabilities. Individuals requiring accommodation, such as sign language interpretation, real-time captioning of the webcast or other ancillary aids, should communicate their needs to Hollis Robinson or Ben Golant, Office of Policy and External Affairs, United States Patent and Trademark Office, Madison Building, 600 Dulany Street, Alexandria, VA 22314; telephone (571) 272-9300; email: hollis.robinson@uspto.gov or benjamin.golant@uspto.gov, at least seven (7) business days prior to the meeting.

Attendees should arrive at least one-half hour prior to the start of the meeting. Persons who have pre-registered (and received confirmation) will have seating held until 15 minutes before the program begins.

Dated: October 31, 2013.
Teresa Stanek Rea,
Deputy Under Secretary of Commerce for Intellectual Property and Deputy Director of the United States Patent and Trademark Office.
Lawrence E. Strickling,
Assistant Secretary of Commerce for Communications and Information.

[FR Doc. 2013-26487 Filed 11-4-13; 8:45 am]

BILLING CODE 3510-16-P